DEPARTMENT OF COMMERCE

International Trade Administration

[C-570-149]

Gas Powered Pressure Washers From the People's Republic of China: Postponement of Preliminary Determination in the Countervailing Duty Investigation

AGENCY: Enforcement and Compliance, International Trade Administration, Department of Commerce.

DATES: Applicable March 14, 2023.

FOR FURTHER INFORMATION CONTACT: Theodore Pearson or Konrad Ptaszynski, AD/CVD Operations, Office I, Enforcement and Compliance, International Trade Administration, U.S. Department of Commerce, 1401 Constitution Avenue NW, Washington, DC 20230; telephone: (202) 482-2631 or (202) 482-6187, respectively.

SUPPLEMENTARY INFORMATION:

Background

On January 25, 2023, the U.S. Department of Commerce (Commerce) initiated a countervailing duty (CVD) investigation of imports of gas powered pressure washers from the People's Republic of China (China).¹ Currently, the preliminary determination is due no later than March 27, 2023.

¹ See Gas Powered Pressure Washers from the People's Republic of China: Initiation of Countervailing Duty Investigation, 88 FR 4812 (January 25, 2023).

Postponement of Preliminary Determination

Section 703(b)(1) of the Tariff Act of 1930, as amended (the Act), requires Commerce to issue the preliminary determination in a CVD investigation within 65 days after the date on which Commerce initiated the investigation. However, if Commerce concludes that the parties concerned in the investigation are cooperating and determined the investigation is extraordinarily complicated, section 703(c)(1) of the Act permits Commerce to postpone the preliminary determination until no later than 130 days after the date on which Commerce initiated the investigation.

Commerce has determined that at least one respondent company involved in the proceeding is cooperating because it filed a request for an extension of time to respond to the Affiliated Companies portion of the Initial CVD Questionnaire,² and that the investigation is extraordinarily complicated.³ Specifically, Commerce will require additional time to analyze the questionnaire responses and issue appropriate requests for clarification and additional information, particularly regarding questions of affiliation and cross-ownership and program use by the respondents (i.e., Chongqing Dajiang Power Equipment Co., Ltd. (CDPE) and Jiangsu Jianghuai Engine Co., Ltd. (JD Power)), as well as 703(c)(1)(B) of the Act, Commerce is postponing the due date for the preliminary determination of this investigation to 130 days after the date on which this investigation was initiated, i.e., May 30, 2023.⁴ Pursuant to section 705(a)(1) of the Act and 19 CFR 351.210(b)(1), the deadline for the final determination of this investigation will continue to be 75 days after the date of the preliminary determination.

² See JD Power's Letter, “JD Power's Affiliated Companies Questionnaire Response Extension Request,” dated March 6, 2023.

³ See section 703(b)(1) of the Act.

⁴ Postponing the preliminary determination to 130 days after initiation would place the deadline on Monday, May 29, 2023, which is a federal holiday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: March 8, 2023.
Lisa W. Wang,
Assistant Secretary for Enforcement and Compliance.

[FR Doc. 2023-05195 Filed 3-13-23; 8:45 am]

BILLING CODE 3510-DS-P